DEPARTMENT OF STATE

[Public Notice 4693]

Culturally Significant Objects Imported for Exhibition Determinations: “Inverted Utopias: Avant-Garde Art in Latin America”

AGENCY: Department of State.

ACTION: Notice; correction.

SUMMARY: On April 7, 2004, notice was published on page 18414 of the FR (volume 69, number 67) by the Department of State pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236 of October 19, 1999, as amended, and Delegation of Authority No. 257 of April 15, 2003 [68 FR 19875]. The referenced Notice is corrected to include additional objects in the exhibition “Inverted Utopias: Avant-Garde Art in Latin America” imported from abroad for temporary exhibition within the United States, which I determine are of cultural significance. The objects are imported pursuant to loan agreements with the foreign owners. I also determine that the exhibition or display of the exhibit objects at the Museum of Fine Arts, Houston from on or about June 20, 2004 to on or about September 12, 2004, and at possible additional venues yet to be determined, is in the national interest. Public Notice of these Determinations is ordered to be published in the Federal Register.

FOR FURTHER INFORMATION CONTACT: For further information, including a list of the additional exhibit objects covered by this Notice, contact Wolodymyr R. Sulzynsky, the Office of the Legal Adviser, U.S. Department of State, (telephone: 202/619-5078). The address is U.S. Department of State, SA-44, 301 4th Street, SW., Room 700, Washington, DC 20547-0001.

Dated: April 14, 2004.
C. Miller Crouch,
Principal Deputy Assistant Secretary for Educational and Cultural Affairs, Department of State.

[FR Doc. 04-9165 Filed 4-21-04; 8:45 am]

BILLING CODE 4710-08-P